DEPARTMENT OF THE INTERIOR

National Park Service

[NPS-WASO-NRNHL-DTS#-26562; PPWOCRADI0, PCU00RP14.R50000]

National Register of Historic Places; Notification of Pending Nominations and Related Actions

AGENCY: National Park Service, Interior.

ACTION: Notice.

SUMMARY: The National Park Service is soliciting comments on the significance of properties nominated before September 15, 2018, for listing or related actions in the National Register of Historic Places.

DATES: Comments should be submitted by October 22, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 15, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

FLORIDA

Hillsborough County

U.S.S. NARCISSUS (tugboat) Shipwreck, 2.75 mi. NW of Egmont Key, Crystal River vicinity, SG100003048

NORTH DAKOTA

Cavalier County

RSL-3, 12329 ND 5, Concrete vicinity, SG100003053

OREGON

Multnomah County

Goldsmith, Bernard and Emma, House, 1507 NW 24th Ave., Portland, SG100003054

Yamhill County

Cameo Theatre, 304 E 1st St., Newberg, SG100003055

SOUTH CAROLINA

Charleston County

Emanuel African Methodist Episcopal Church, 110 Calhoun St., Charleston, SG100003056

Richland County

Olympia Mill Village Historic District, Portions of Lincoln, Gadsden, Wayne, Heyward, Silver, S Parker, Alabama, Carolina, Delaware, Florida, Georgia, Kentucky, Maryland & Ohio Sts., Columbia vicinity, SG100003058

Washington. Booker T., High School Auditorium, (Segregation in Columbia, South Carolina MPS), 1400 Wheat St., Columbia, MP100003059

WISCONSIN

Jefferson County

Knapp—Calkins Farmstead, W1420 WI 59, Palmyra, SG100003061

In the interest of preservation, a SHORTENED comment period has been requested for the following resource:

VERMONT

Rutland County

Hubbardton Battlefield (Boundary Increase, Decrease) Address Restricted, Hubbardton vicinity, BC100003062, Comment period: 3 days

A request for removal has been made for the following resource:

UTAH

Box Elder County

Southern Pacific Railroad: Ogden-Lucin Cut-Off Trestle, 30 mi. W of Ogden at N arm of Great Salt Lake, Ogden vicinity, OT72001257

Nomination submitted by Federal Preservation Officers:

The State Historic Preservation Officer reviewed the following nomination and responded to the Federal Preservation Officer within 45 days of receipt of the nomination and supports listing the property in the National Register of Historic Places.

NEW MEXICO

San Miguel County

Pecos National Historical Park Archaeological and Historic District, Address Restricted, Pecos vicinity, SG100003052

Authority: Section 60.13 of 36 CFR part 60.

Dated: September 20, 2018.
Julie H. Ernstein,
Acting Chief, National Register of Historic Places/National Historic Landmarks Program and Deputy Keeper of the National Register of Historic Places.

[FR Doc. 2018-21713 Filed 10-4-18; 8:45 am]

BILLING CODE 4312-52-P